ENVIRONMENTAL PROTECTION AGENCY

[ER-FRL-6610-9]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. D-FRA-A54035-00 Rating EC2, Programmatic—Maglev Deployment Program, Development and Construction of an Operating Public Transportation System using Magnetic Levitation, Grants Issuance, CA, FL, GA, LA, MD, NV and PA.

Summary: EPA expressed concerns relating to disclosure of the existing state of knowledge regarding the safety and health effects and general operating characteristics of Maglev technology,

ERP No. D-FTA-L54004-WA Rating LO, Sound Transit, Lakewood-to-Tacoma Commuter Rail and WA-512 Park and Ride Expansion, Construction and Operation, Central Puget Sound Regional Transit Authority, City of Tacoma and City of Lakewood, WA.

Summary: EPA has no objections to the action as proposed.

ERP No. D-NPS-K60030-CA Rating EC2, Legislative EIS—Timbisha Shoshone Tribal Homeland, To Establish a Permanent Tribal Land Base and Related Cooperative Activities, The Transfer of Federal Land and Acquisition of Private Land, Death Valley National Park, Saline Valley, CA and Lida Ranch near Lida, NV.

Summary: EPA expressed concerns regarding the range of alternatives and the lack of information on the reasonably foreseeable future development (RFFD) on proposed lands for transfer in trust. EPA requested more information on RFFD, that the alternatives section criteria be included in the body of the document, that alternatives be presented in comparative format, and that the Tribal and Federal agencies commit to the development of a comprehensive plan in the Record of Decision (ROD).

ERP No. DR-COE-K90029-CA Rating EC2, Delta Wetlands Project, Construction and Operation Revised Information for the Water Storage Project on Four Islands in the Sacramento-San Joaquin Delta, Approval of Permits, San Joaquin and Contra Costa Counties, CA.

Summary: EPA expressed concerns that the project will yield degradation of Delta water with respect to its beneficial use as a source for drinking water. EPA requested that more stringent criteria for total organic carbons be used as a goal in the FEIS.

ERP No. DS-COE-K36083-CA Rating EC2, Guadalupe River Flood Control Plan, Improvement, City of San Jose, Santa Clara County, California

Summary: EPA expressed concerns regarding effects on the aquatic environment associated with the potential release of mercury-contaminated sediments and with the degradation and loss wetlands and riparian habitat in the Guadalupe River watershed. EPA urged the Corps and the local project sponsor to avoid and minimize such impacts to the fullest extent and identify appropriate mitigation measures.

ERP No. DS-FHW-L40198-WA Rating EC2, North Spokane Freeway Project, Improvements Transportation through the City of Spokane and Spokane County between I-90, Spokane County, WA.

Summary: EPA expressed concerns regarding potential wetland impacts and the lack of analysis of proposed road building activities associated with possible hazardous waste impacts.

Final EISs

ERP No. F-FHW-G40154-TX, Loop 1 Extension Project, From Farm-to-Market Road FM-734 (Palmer Lander) to I-35, Funding, Travis and Williamson Counties, TX.

Summary: EPA finds that the final EIS responded reasonably to EPA's comments on the draft EIS, therefore EPA has no objection to the action as proposed.

ERP No. F-FHW-K40163-CA, CA-238 Construction, near Industrial Parkway to CA-238/I-580 Interchange, Funding, and 404 Permit, City of Hayward, Alameda County, CA.

Summary: EPA expressed continuing objections to the environmental impacts of induced travel demand and cumulative impacts generated by the proposed project. EPA requested monitoring and mitigation for induced travel demand and the implementation of controls to prevent growth inducement.

Dated: September 12, 2000.
Ken Mittelholtz,
Environmental Protection Specialist, Office of Federal Activities.

[FR Doc. 00-23810 Filed 9-14-00; 8:45 am]

BILLING CODE 6560-01-U